DEPARTMENT OF VETERANS AFFAIRS

National Commission on VA Nursing; Notice of Meeting

The Department of Veterans Affairs (VA) gives notice under Public Law 92-463 (Federal Advisory Committee Act) that the National Commission on VA Nursing will hold its fourth meeting on January 8-9, 2003, at the MGM Grand, 3799 Las Vegas Blvd., So. Las Vegas, NV 89109. On January 8, the meeting will begin at 9 a.m. and adjourn at 5 p.m. On January 9, the meeting will begin at 8 a.m. and adjourn at 2 p.m. The meeting is open to the public.

The purpose of the Commission is to provide advice and make recommendations to Congress and the Secretary of Veterans Affairs regarding legislative and organizational policy changes to enhance the recruitment and retention of nurses and other nursing personnel in VA. The Commission is required to submit to Congress and the Secretary of Veterans Affairs a report, not later than two years from May 8, 2002, on its findings and recommendations.

The Commission will meet to continue data analysis, update the work plan, finalize selection of sites for focus groups, review correspondence from VA staff, finalize issues paper, and review staffing data from VA facilities.

Members of the public may direct written questions or submit prepared statements for review by the Commission in advance of the meeting, to Ms. Oyweda Moorer, Director of the National Commission on VA Nursing, at the Department of Veterans Affairs (108N), 810 Vermont Avenue, NW., Washington, DC 20420. Any member of the public wishing to attend the meeting should contact Ms. Stephanie Williams, Program Analyst at (202) 273-4944.

Dated: December 18, 2002.
By Direction of the Secretary.
Nora E. Egan,
Committee Management Officer.

[FR Doc. 02-32627 Filed 12-26-02; 8:45 am]

BILLING CODE 8320-01-M